DEPARTMENT OF COMMERCE

National Oceanic and Atmospheric Administration

RIN 0648-XG780

North Pacific Fishery Management Council; Public Meeting; Correction

AGENCY: National Marine Fisheries Service (NMFS), National Oceanic and Atmospheric Administration (NOAA), Commerce.

ACTION: Notice; correction.

SUMMARY: The North Pacific Fishery Management Council (Council) published a document on February 11, 2019, announcing the agenda for upcoming meetings of the Council and its advisory committees. The announcement omitted an item from the agenda.

FOR FURTHER INFORMATION CONTACT: Diana Evans, Council staff; telephone: (907) 271-2809.

Correction

In the Federal Register of February 11, 2019, in FR Doc. 2019-01886, in the section entitled Agenda, add the following to the list of items for the Council Plenary Session: “29) BSAI Trawl Catcher Vessel Pacific Cod Mothership Adjustments—Final Action.” Additionally, the sentence that reads “The Advisory Panel will address Council agenda items (12) through (28)” should be removed and replaced with “The Advisory Panel will address Council agenda items (10), and (12) through (29).”

Dated: February 13, 2019.
Tracey L. Thompson,
Acting Deputy Director, Office of Sustainable Fisheries, National Marine Fisheries Service.

[FR Doc. 2019-02669 Filed 2-15-19; 8:45 am]

BILLING CODE 3510-22-P